DEPARTMENT OF HEALTH AND HUMAN SERVICES

Centers for Disease Control and Prevention

[60 Day-03-86]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: 2004 Latino Adult Tobacco Survey (ATS)—New—National Center for Chronic Disease Prevention and Health Promotion (NCCDPHP), Centers for Disease Control and Prevention (CDC).

The purpose of this project is to test and pilot a culturally appropriate Adult Tobacco Survey questionnaire for Latinos, specifically Puerto Ricans, Mexican-Americans, and Cubans. This questionnaire will expand data and existing knowledge of tobacco use among Latinos in order to benefit tobacco use and prevention surveillance at a state, local, and/or regional level. The questions will help to narrow existing gaps in knowledge of tobacco use among Latinos and inform development of Latino-specific interventions.

The Latino population is fast growing in the United States. It is expected that the number of Latinos living in the U.S. will increase from 35.3 million in the year 2000 to 98.2 million in the year 2050, almost 3 times the current population. A large growth in Latino populations, especially in non-traditional states, will have important implications in terms of tobacco control in the years to come. CDC is conducting a survey project that includes:

(1) Developing a culturally appropriate Adult Tobacco Survey questionnaire for Latinos

(2) Piloting the final instrument in approximately five Latino communities

In an effort to better understand the effects of smoking in Latino populations, CDC will utilize a culturally appropriate questionnaire for pilot implementation in approximately five Latino communities. The location of these communities is currently undecided. Within each community, the survey will be conducted with six-hundred participants, for a total of three-thousand participants. The survey will be conducted in both English and Spanish. There is no cost to the respondents.

Respondents | No. of respondents | No. of responses/respondent | Avg. burden/response (in hrs.) | Total burden (in hrs.)
Participants Community 1 | 600 | 1 | 45/60 | 450
Participants Community 2 | 600 | 1 | 45/60 | 450
Participants Community 3 | 600 | 1 | 45/60 | 450
Participants Community 4 | 600 | 1 | 45/60 | 450
Participants Community 5 | 600 | 1 | 45/60 | 450
Total |  |  |  | 2,250

Dated: June 30, 2003.
Thomas A. Bartenfeld,
Acting Associate Director for Policy, Planning and Evaluation, Centers for Disease Control and Prevention.

[FR Doc. 03-17013 Filed 7-3-03; 8:45 am]

BILLING CODE 4163-18-P